ENVIRONMENTAL PROTECTION AGENCY

40 CFR Part 52

[PA183-4203a; FRL-7480-2]

Approval and Promulgation of Air Quality Implementation Plans; Pennsylvania; VOC and NOX RACT Determinations for Three Individual Sources

AGENCY: Environmental Protection Agency (EPA).

ACTION: Direct final rule.

SUMMARY: EPA is taking direct final action to approve revisions to the Commonwealth of Pennsylvania's State Implementation Plan (SIP). The SIP revisions were submitted by the Pennsylvania Department of Environmental Protection (PADEP) to establish and require reasonably available control technology (RACT) for three major sources of volatile organic compounds (VOC) and nitrogen oxides (NOX) located in Pennsylvania. EPA is approving these revisions to establish RACT requirements in the SIP in accordance with the Clean Air Act (CAA).

DATES: This rule is effective on July 1, 2003, without further notice, unless EPA receives adverse written comment by June 2, 2003. If EPA receives such comments, it will publish a timely withdrawal of the direct final rule in the Federal Register and inform the public that the rule will not take effect.

ADDRESSES: Written comments should be mailed to Makeba Morris, Acting Branch Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 1301 Constitution Avenue, NW., Room B108, Washington, DC 20460; and the Pennsylvania Department of Environmental Protection, Bureau of Air Quality Control, P.O. Box 8468, 400 Market Street, Harrisburg, Pennsylvania 17105.

FOR FURTHER INFORMATION CONTACT: Betty Harris at (215) 814-2168 or Rose Quinto at (215) 814-2182 or via e-mail at harris.betty@epa.gov or quinto.rose@epa.gov.

SUPPLEMENTARY INFORMATION:

I. Background

Pursuant to sections 182(b)(2) and 182(f) of the CAA, the Commonwealth of Pennsylvania (the Commonwealth or Pennsylvania) is required to establish and implement RACT for all major VOC and NOX sources. The major source size is determined by its location, the classification of that area, and whether it is located in the ozone transport region (OTR). Under section 184 of the CAA, RACT, as specified in sections 182(b)(2) and 182(f) applies throughout the OTR. The entire Commonwealth is located within the OTR. Therefore, RACT is applicable statewide in Pennsylvania.

II. Summary of the SIP Revision

On December 21, 2001, PADEP submitted formal revisions to its SIP to establish and impose case-by-case RACT for several major sources of VOC and NOX. This rulemaking pertains to three of those sources. The other sources are subject to separate rulemaking actions. The RACT determinations and requirements are included in plan approvals (PA) or operating permits (OP) issued by PADEP.

The following identifies the individual plan approval or operating permit that EPA is approving for each source.

A. Bethlehem Structural Products Corporation

Bethlehem Structural Products Corporation (BSPC) is a coke and coal chemical production facility located in Northampton County, Pennsylvania and is considered a major VOC and NOX emitting facility. In this instance, RACT has been established and imposed by PADEP in an operating permit. On December 21, 2001, PADEP submitted operating permit No. OP-48-0013 to EPA as a SIP revision. This permit requires BSPC sources and any associated air cleaning devices to be operated and maintained in a manner consistent with good operating and maintenance practices. This permit contains the following NOX emission limits: (a) Battery “A” combustion stack—0.71 lb./MMBTU heat input for a 30-day rolling average; (b) Battery “2A” combustion stack—0.24 lb./MMBTU heat input for a 30-day rolling average; (c) Desulfurizer—4.25 tons per year; (d) Coke bleeders (operations)—0.85 tons per day; and (e) Coke Plant Boilerhouse—Boiler Nos. 1, 2, 3 and 4—0.25 lb./MMBTU heat input (daily average). This permit also contains VOC emission limits for the coke side from Battery “A” that shall not exceed 438 tons per year.

This permit contains testing requirements for the following: (a) Source tests for NOX for the boiler house, Battery “A” combustion stack and for Battery “2A” (each of under fire stacks 2 and 3) shall be conducted in accordance with 25 Pa. Code Chapter 139 as per PADEP's source testing procedures described in the latest Source Testing Manual or source testing procedure approved by PADEP prior to testing. Compliance shall be based on average of these consecutive source tests and the source tests are to be conducted on an annual basis; (b) At least 60 days prior to the tests, pre-test protocol shall be submitted to PADEP for approval; and (c) Within 60 days of completion of the tests, two copies of the complete test reports, including all operating conditions shall be submitted to PADEP for approval.

The permit also contains requirements for the coke and chemical production sources:

(1) Battery “A” and “2A” Under fire—The NOX RACT shall be the operation and maintenance of low excess air technology, by minimizing fuel use and maintaining the best air-to-fuel ratio that satisfies the process. The company shall maintain records in accordance with the record keeping requirements of 25 Pa. Code section 129.95 and shall include as a minimum, data which clearly demonstrate that the NOX emission limits are met. All records shall be maintained for at least two years and made available to PADEP upon request.

(2) Desulfurizer—NOX and VOC RACT for the desulfurizer operation, specifically the tail-gas incinerator of the desulfurizer, shall be the operation and maintenance of the source according to the manufacturers specifications. The facility shall not be less than 22,000,000 SCFD of the minimum daily amount of coke oven gas entering the oven gas desulfurizer unit and shall not exceed 70,000,000 SCFD of the maximum daily amount of coke oven gas entering the coke oven gas desulfurizer unit. The facility shall record the daily amount of coke oven gas produced by the coke oven batteries and those records be maintained for a period of two years and made available to PADEP upon request. Within 14 days of the completion of the annual desulfurizer plant outage for the boiler inspection and plant maintenance, the facility shall submit a written notification to PADEP giving the details of the maintenance work performed on the plant, and the dates of the outage. The facility shall maintain records in accordance with the recordkeeping requirements of 25 Pa. Code section 129.95 and shall include as a minimum, data which clearly demonstrate that the NOX emission limits are met. All records shall be maintained for a period of at least two years and made available to PADEP upon request.

(3) Coke Bleeders—The NOX RACT for the Coke Bleeders shall be the operation and maintenance of the sources according to the current operating practice. The facility shall maintain records in accordance with the recordkeeping requirements of 25 Pa. Code section 129.95 and shall include as a minimum, data which clearly demonstrate that the NOX emission limits are met. All records shall be maintained for a period of at least two years and made available to PADEP upon request.

(4) Coke Plant Boiler house—Boiler Nos. 1, 2 and 3 can be fired by a combination of tar derivatives, used oil, and No. 6 fuel oil; a combination of tar and grease derived fuel oil; and a combination of desulfurized coke oven gas and natural gas. Boiler No. 4 can be fired by a combination of No. 6 fuel oil, tar derivatives and used oil or a combination of desulfurized coke oven gas and natural gas. NOX RACT shall be the operation and maintenance of the boilers according to manufacturers specifications. In addition, an annual tune-up of each boiler's combustion process shall be performed. The facility shall maintain records in accordance with the recordkeeping requirements of 25 Pa. Code section 129.95 and shall include as a minimum, data which clearly demonstrate that the NOX emission limits are met. All records shall be maintained for a period of at least two years and made available to PADEP upon request.

(5) Coal Chemical Process—VOC RACT of the coal chemical process shall be the operation and maintenance of the sources according to the manufacturer's specifications. Sources shall also be operated and maintained in accordance with good air pollution control practices. The coal chemical process consists of sources and associated gas blanketing systems identified in the permit. The facility shall maintain records in accordance with the recordkeeping requirements of 25 Pa. Code section 129.95. All records shall be maintained for at least two years and made available to PADEP upon request.

(6) Coke Oven Batteries “A” and “2A”—VOC RACT for the Coke Oven Batteries “A” and “2A”, push and coke sides, shall be the operation and maintenance of the sources according to the manufacturer's specifications. Sources shall also be operated and maintained in accordance with good air pollution control practices. The facility shall maintain records in accordance with the recordkeeping requirements of 25 Pa. Code section 129.95 and shall include as a minimum, data which clearly demonstrate that the VOC emission limit is met. All records shall be maintained for a period of at least two years and made available to PADEP upon request.

(7) VOC RACT for in-plant painting and the compressed air system shall be the operation and maintenance of the sources according to manufacturers' specifications.

B. International Paper Company, Erie Mill

International Paper Company, Erie Mill, operates an integrated pulp and paper manufacturing facility located in Lancaster County, Pennsylvania and is considered a major VOC and NOX emitting facility. Boilers 18, 19, 21, and 23 provide power for the facility. In this instance, RACT has been established and imposed by PADEP in a plan approval. On December 21, 2001, PADEP submitted plan approval No. PA-25-028 to EPA as a SIP revision. The plan approval is for the installation of Low NOX Burners on Boilers 18 and 19. Stack testing shall be done in accordance with 25 Pa. Code Chapter 139 for determining the amount of NOX emissions. The facility shall conduct annual stack testing on Boilers 18 and 19 within 10 weeks after the installation of Low NOX Burners. Stack testing shall be performed on Boiler 23 on or before the stack testing date set for Boilers 18 and 19. A pre-test procedure shall be submitted at least 30 days prior to actual testing. PADEP shall be notified at least two weeks in advance of the date and time of stack testing. Two copies of the complete test reports shall be submitted within 60 days after the source test.

The plan approval requires the facility to comply with 25 Pa. Code section 129.95 for recordkeeping requirements.

The plan approval contains emission limits of NOX for Boiler No. 21 and the Recovery Boiler based on a 30-day rolling average of 0.54 lbs./MMBTU and 0.20 lbs./MMBTU, respectively. Both Boiler No. 21 and the Recovery Boiler are equipped with a NOX continuous emission monitoring (CEM) system, which will be used to show compliance with the NOX RACT limit.

VOC emissions from the pulp production area, paper mill, and recausticizing areas shall be maintained at the lowest possible level. International Paper shall maintain a program of continual evaluation of available chemical formulations for replacement where possible with chemical formulations containing a lower level of VOC. International Paper shall maintain records of usage of VOC containing materials in accordance with 25 Pa. Code section 129.95, and shall inform PADEP upon changes in currently used VOC containing chemical formulations.

C. Natural Fuel Gas Supply Corporation

The National Fuel Gas Supply Corporation, Heath Compressor Station, is located in Jefferson County, Pennsylvania and is considered a major NOX emitting facility. This facility consists of seven natural gas compressors and a standby generator. All seven compressors are reciprocating internal combustion engines fueled by pipeline quality natural gas. The standby generator is driven by a 35 HP internal combustion engine fueled by natural gas. In this instance, RACT has been established and imposed by PADEP in an operating permit for one of the compressors, the Waukesha Unit #9. On December 21, 2001, PADEP submitted operating permit No. PA-33-144A to EPA as a SIP revision. The RACT plan approval is for the installation of an air fuel ratio controller and catalytic converter on the Waukesha Unit #9. Emission limits for the Waukesha Unit #9 will be reduced 80 percent to a low NOX emission rate of 7.7 lb./hr. The NOX RACT emission limits will be waived for one hour period following the sources start up or shutdown. Stack testing to determine the emission rates shall be performed within 60 days of startup of the unit and every five years thereafter. The facility shall perform semi-annual stack tests using a portable analyzer on the Waukesha Unit. The protocol shall be approved by PADEP and may require annual tests in accordance with EPA reference methods pending the submission of the semi-annual stack tests. At least 30 days prior to the scheduled stack test, a test procedure and a sketch with dimensions indicating the location of sampling ports and other data to ensure the collection of representative samples shall be submitted to PADEP for approval. Also, at least two weeks prior to the test, PADEP shall be informed of the date and time of the test. Two copies of the stack test results shall be submitted to PADEP for review within 60 days of completion of the testing. The facility shall submit to PADEP all recordkeeping reports for all sources subject to RACT requirements within 30 days of the end of each calendar year. The facility shall also comply with 25 Pa. Code section 129.95 for recordkeeping requirements. For the standby generator, this source shall be installed, maintained, and operated in accordance with the manufacturer's specification, be operating less than 500 hours in a consecutive 12 month period, and also be operated and maintained in accordance with good air pollution control practices. For Snow units 1, 2, 3, 4, 6, and 8; and the other sources listed in Table 2 of the RACT plan approval, these sources shall be installed, maintained and operated in accordance with the manufacturer's specifications, and also be operated and maintained in accordance with good air pollution control practices.

III. EPA's Evaluation of the SIP Revisions

EPA is approving these SIP submittals because the Commonwealth established and imposed requirements in accordance with the criteria set forth in SIP-approved regulations for imposing RACT or for limiting a source's potential to emit. The Commonwealth has also imposed record-keeping, monitoring, and testing requirements on these sources sufficient to determine compliance with these requirements.

IV. Final Action

EPA is approving revisions to the Commonwealth of Pennsylvania's SIP which establish and require RACT for these three major sources of VOC and NOX: (1) Bethlehem Structural Products Corporation in Northampton County; (2) International Paper Company in Erie County; and (3) National Fuel Gas Supply in Jefferson County. EPA is publishing this rule without prior proposal because we view this as a noncontroversial amendment and anticipate no adverse comment. However, in the “Proposed Rules” section of today's Federal Register, EPA is publishing a separate document that will serve as the proposal to approve the SIP revision if adverse comments are filed. This direct final rule will be effective on July 1, 2003, without further notice unless we receive adverse comment by June 2, 2003. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

V. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Pub. L. 104-4). This rule also does not have tribal implications because it will not have a substantial direct effect on one or more Indian tribes, on the relationship between the Federal government and Indian tribes, or on the distribution of power and responsibilities between the Federal government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a State rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for three named sources.

C. Petitions for Judicial Review

Under section 307(b)(1) of the Clean Air Act, petitions for judicial review of this action must be filed in the United States Court of Appeals for the appropriate circuit by July 1, 2003. Filing a petition for reconsideration by the Administrator of this final rule does not affect the finality of this rule for the purposes of judicial review nor does it extend the time within which a petition for judicial review may be filed, and shall not postpone the effectiveness of such rule or action. This action approving the Commonwealth's source-specific RACT requirements to control VOC and NOX from three individual sources may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: March 31, 2003.
Thomas C. Voltaggio,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(200) to read as follows:

§ 52.2020 Identification of plan.

* * * * *

(c) * * *

(200) Revisions pertaining to VOC and NOX RACT for major sources submitted on December 21, 2001.

(i) Incorporation by reference.

(A) Letter submitted on December 21, 2001 by the Pennsylvania Department of Environmental Protection transmitting source-specific VOC and/or NOX RACT determinations, in the form of plan approvals or operating permits:

(B) Plan approval (PA); Operating permit (OP):

(1) Bethlehem Structural Products Corporation, Northampton County, OP-48-0013, effective October 24, 1996.

(2) International Paper Company, Erie Mill, Erie County, PA-25-028, effective December 21, 1994.

(3) National Fuel Gas Supply Corporation, Jefferson County, PA-33-144A, effective October 5, 1998.

(ii) Additional Material.

(A) Letters of October 15, 2002 and February 11, 2003 from the Pennsylvania Department of Environmental Protection (PADEP) to EPA transmitting materials related to the RACT permits listed in paragraph (c)(200)(i) of this section.

(B) Other materials submitted by PADEP in support of and pertaining to the RACT determinations for the sources listed in paragraph (c)(200)(i) of this section.

[FR Doc. 03-10658 Filed 5-1-03; 8:45 am]

BILLING CODE 6560-50-P